DEPARTMENT OF TRANSPORTATION

Federal Aviation Administration

14 CFR Part 93

[Docket No. FAA-2010-0302; Amdt. No. 93-101]

RIN 2120-AK84

Extension of the Requirement for Helicopters To Use the New York North Shore Helicopter Route; Technical Amendment

AGENCY: Federal Aviation Administration, DOT.

ACTION: Final rule; technical amendment.

SUMMARY: The FAA is correcting an error, whereby the applicability of a regulation was extended instead of its effectivity. Consequently, a section of the pertinent regulation was relocated in Title 14, Code of Federal Regulations and all remaining provisions of the regulation inadvertently expired. However, the entire regulation was intended to be extended for four years in the final rule published on July 25, 2016 (Doc. No. 2016-17427, 81 FR 48323), which became effective on August 7, 2016.

DATES: This action becomes effective on September 13, 2016.

FOR FURTHER INFORMATION CONTACT: For technical questi ons concerning this action, contact Kenneth Ready, Airspace and Rules Team, AJV-113, Federal Aviation Administration, 800 Independence Avenue SW., Washington, DC 20591; telephone (202) 267-3396; email kenneth.ready@faa.gov.

SUPPLEMENTARY INFORMATION:

Good Cause for Immediate Adoption Without Prior Notice

Section 553(b)(3)(B) of the Administrative Procedure Act (APA) (5 U.S.C. 551 et seq.) authorizes agencies to dispense with notice and comment procedures for rules when the agency for “good cause” finds that those procedures are “impracticable, unnecessary, or contrary to the public interest.” Under this section, an agency, upon finding good cause, may issue a final rule without seeking comment prior to the rulemaking.

Section 553(d)(3) of the Administrative Procedure Act requires that agencies publish a rule not less than 30 days before its effective date, except as otherwise provided by the agency for good cause found and published with the final rule.

This document is correcting an error that is in 14 CFR part 93. This correction will not impose any additional restrictions on the persons affected by these regulations. Furthermore, any additional delay in making the regulations correct would be contrary to the public interest. Accordingly, the FAA finds that (i) public comment on these standards prior to promulgation is unnecessary, and (ii) good cause exists to make this rule effective in less than 30 days and upon its publication in the Federal Register.

Background

On July 25, 2016, the FAA published a final rule extending the requirement an additional four years for pilots operating civil helicopters under Visual Flight Rules (VFR) to use the New York North Shore Helicopter Route when operating along the north shore of Long Island, New York. The final rule extended the expiration date of the applicability, rather than the effectivity, to August 6, 2020. Consequently, that error in the final rule resulted in the inadvertent removal of Subpart H of part 93 of Title 14, Code of Federal Regulations (14 CFR). This final rule corrects that error and reinstates the provisions of Subpart H, extending those provisions to August 6, 2020.

Technical Amendment

This technical amendment will correct the current error of § 93.101 being moved to Subpart G, § 93.103 expiring, and Subpart H being reserved. Because this action results in no further substantive change to 14 CFR part 93, we find good cause exists under 5 U.S.C. 553(d)(3) to make this technical amendment effective in less than 30 days and upon its publication in the Federal Register.

List of Subjects in 14 CFR Part 93

Air traffic control, Airspace, Navigation (air).

The Amendment

In consideration of the foregoing, the Federal Aviation Administration amends chapter I of Title 14 of the Code of Federal Regulations as follows:

PART 93—SPECIAL AIR TRAFFIC RULES

1. The authority citation for part 93 continues to read as follows:

Authority: 49 U.S.C. 106(g), 40103, 40106, 40109, 40113, 44502, 44514, 44701, 44715, 44719, 46301.

2. Add subpart H consisting of § 93.103 to read as follows:

Subpart H—Mandatory Use of the New York North Shore Helicopter Route

§ 93.103 Helicopter operations.

(a) Unless otherwise authorized, each person piloting a helicopter along Long Island, New York's northern shoreline between the VPLYD waypoint and Orient Point, shall utilize the North Shore Helicopter route and altitude, as published.

(b) Pilots may deviate from the route and altitude requirements of paragraph (a) of this section when necessary for safety, weather conditions or transitioning to or from a destination or point of landing.

§ 93.101 [Transferred to Subpart H]

3. Transfer § 93.101 from subpart G to subpart H.

Issued under authority provided by 49 U.S.C. 106(f), 44701(a), and 44703, in Washington, DC, on September 7, 2016.
Lirio Liu,
Director, Office of Rulemaking.

[FR Doc. 2016-21963 Filed 9-12-16; 8:45 am]

BILLING CODE 4910-13-P